ENVIRONMENTAL PROTECTION AGENCY

[FRL 9999-10-OW]

Open Meeting of the Environmental Financial Advisory Board

AGENCY: Environmental Protection Agency (EPA).

ACTION: Notice of open meeting.

SUMMARY: The Environmental Protection Agency's (EPA) Environmental Financial Advisory Board (EFAB) will hold a public meeting on October 16-18, 2019 in the Kansas City, Missouri metropolitan area. The EFAB is an EPA advisory committee chartered under the Federal Advisory Committee Act to provide advice and recommendations to EPA on creative approaches to funding environmental programs, projects, and activities.

The purpose of this meeting is to discuss recommendations from EFAB work products; to discuss changes to the EFAB's process of selecting new topics and developing recommendations; and to discuss stormwater funding and financing. The meeting is open to the public; however, seating is limited. All members of the public who wish to attend the meeting must register in advance, no later than Monday, September 30, 2019 at https://epaefaboctober2019.eventbrite.com.

DATES: A workgroup of the board, the Stormwater Infrastructure Taskforce/Workgroup will meet on Wednesday, October 16, 2019 from 9 a.m.-5 p.m. The full board meeting will be held Thursday, October 17, 2019 from 9 a.m.-5 p.m. and Friday, October 18, 2019 from 9 a.m.-12 p.m.

ADDRESSES: The Fontaine—A Kansas City Hotel, 901 W. 48th Place, Kansas City, MO 64112.

FOR FURTHER INFORMATION CONTACT: For information on access or services for individuals with disabilities, or to request accommodations for a disability, please contact Tara Johnson at (202) 564-6186 or johnson.tara@epa.gov at least 10 business days prior to the meeting to allow as much time as possible to process your request.

Dated: August 21, 2019.
Andrew Sawyers,
Director, Office of Wastewater Management, Office of Water.

[FR Doc. 2019-19093 Filed 9-3-19; 8:45 am]

BILLING CODE 6560-50-P